ENVIRONMENTAL PROTECTION AGENCY

40 CFR Part 63

[EPA-HQ-OAR-2008-0334; FRL-9746-4]

RIN 2060-AQ89

National Emission Standards for Hazardous Air Pollutants for Chemical Manufacturing Area Sources

AGENCY: Environmental Protection Agency (EPA).

ACTION: Final rule; stay.

SUMMARY: On January 30, 2012, the EPA published in the Federal Register a proposed rule reconsidering certain provisions in the final National Emission Standards for Hazardous Air Pollutants for Chemical Manufacturing Area Sources (CMAS) that was promulgated on October 29, 2009. The compliance date for the final CMAS rule is October 29, 2012. However, the EPA is still in the process of finalizing the reconsideration action. For this reason, a short stay of the final CMAS rule pending completion of the reconsideration action is warranted. Pursuant to the Clean Air Act, the EPA is staying until December 24, 2012 the final CMAS rule.

DATES: Effective October 25, 2012, 40 CFR part 63, subpart VVVVVV, is stayed until December 24, 2012.

FOR FURTHER INFORMATION CONTACT: Mr. Nick Parsons, Sector Policies and Programs Division (E143-01), Office of Air Quality Planning and Standards, U.S. Environmental Protection Agency, Research Triangle Park, North Carolina 27711; telephone number: (919) 541-5372; fax number: (919) 541-0246; email address: parsons.nick@epa.gov.

SUPPLEMENTARY INFORMATION:

I. Background

On October 29, 2009 (74 FR 56008), the EPA issued the final CMAS rule. On February 12, 2010, the American Chemistry Council and the Society of Chemical Manufacturers and Affiliates (collectively referred to as “Petitioners”) sought reconsideration of certain provisions in the final rule. On June 15, 2010, the EPA notified Petitioners that the EPA intended to initiate the reconsideration process.

On January 30, 2012 (77 FR 4522), the EPA published a proposed rule reconsidering certain aspects of the final CMAS rule, including provisions that, if finalized, would revise the applicability of the final rule. The compliance date for the final CMAS rule is October 29, 2012, and it was EPA's expectation that the reconsideration would be finalized in advance of that date. However, the EPA is still in the process of finalizing the reconsideration action. For this reason, a short stay of the final rule is appropriate to allow the EPA the time necessary to complete the reconsideration action.

Pursuant to Clean Air Act section 307(d)(7)(B), the EPA is staying for 60 days the provisions of 40 CFR part 63, subpart VVVVVV.

II. Statutory and Executive Order Reviews

A. General Requirements

Under Executive Order 12866 (58 FR 51735, October 4, 1993), this action is not a “significant regulatory action” and, therefore, is not subject to review by the Office of Management and Budget. For this reason, this action is also not subject to Executive Order 13211, “Actions Concerning Regulations That Significantly Affect Energy Supply, Distribution, or Use” (66 FR 28355, May 22, 2001). In addition, this action does not impose any enforceable duty or contain any unfunded mandate as described in the Unfunded Mandates Reform Act of 1995 (Pub. L. 104-4), or require prior consultation with state officials as specified by Executive Order 12875 (58 FR 58093, October 28, 1993), or involve special consideration of environmental justice related issues as required by Executive Order 12898 (59 FR 7629, February 16, 1994). Because this action is not subject to notice-and-comment requirements under the Administrative Procedure Act or any other statute, it is not subject to the regulatory flexibility provisions of the Regulatory Flexibility Act (5 U.S.C. 601, et seq.). This action also does not have tribal implications because it will not have a substantial direct effect on one or more Indian tribes, on the relationship between the federal government and Indian tribes or on the distribution of power and responsibilities between the federal government and Indian tribes, as specified by Executive Order 13175 (65 FR 67249, November 9, 2000). This action also does not have federalism implications because it does not have substantial direct effects on the states, on the relationship between the national government and the states or on the distribution of power and responsibilities among the various levels of government, as specified in Executive Order 13132 (64 FR 43255, August 10, 1999). This action also is not subject to Executive Order 13045 “Protection of Children from Environmental Health Risks and Safety Risks” (62 FR 19885, April 23, 1997). The requirements of section 12(d) of the National Technology Transfer and Advancement Act of 1995 (15 U.S.C. 272 note) do not apply. This action does not impose an information collection burden under the provisions of the Paperwork Reduction Act of 1995 (44 U.S.C. 3501, et seq.). The EPA's compliance with these statutes and Executive Orders for the underlying rule is discussed in the October 29, 2009, Federal Register document.

B. Submission to Congress and the Comptroller General

The Congressional Review Act, 5 U.S.C. 801, et seq., as added by the Small Business Regulatory Enforcement Fairness Act of 1996, generally provides that before a rule may take effect the agency promulgating the rule must submit a rule report, which includes a copy of the rule, to each House of the Congress and to the Comptroller General of the United States. The EPA will submit a report containing this notice and other required information to the United States Senate, the United States House of Representatives and the Comptroller General of the United States prior to publication of the rule in the Federal Register. The stay of the provisions in 40 CFR part 63, subpart VVVVVV is not a “major rule” as defined by 5 U.S.C. 804(2).

List of Subjects in 40 CFR Part 63

Environmental protection, Administrative practice and procedure, Air pollution control, Monitoring, Reporting and recordkeeping.

Dated: October 19, 2012.
Lisa P. Jackson,
Administrator.

For the reasons stated in the preamble, title 40, chapter I, part 63 of the Code of Federal Regulations is amended as follows:

PART 63—[AMENDED]

1. The authority citation for part 63 continues to read as follows:

Authority: 42 U.S.C. 7401, et seq.

Subpart VVVVVV—[AMENDED]

2. Subpart VVVVVV is stayed from October 25, 2012 until December 24, 2012.

[FR Doc. 2012-26285 Filed 10-24-12; 8:45 am]

BILLING CODE 6560-50-P